DEPARTMENT OF HEALTH AND HUMAN SERVICES

Centers for Disease Control and Prevention

[60Day-04-38]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project

Heads Up: High School Sports—New—National Center for Injury Prevention and Control (NCIPC), Centers for Disease Control and Prevention (CDC).

It is estimated that 300,000 sports-related traumatic brain injuries of mild to moderate severity, most of which can be classified as concussions, occur each year in the United States. While the proportion of these injuries that are repeat occurrences is unknown, there is an increased risk of subsequent concussion among persons who have had at least one previous concussion. Repeated concussions occurring over an extended period can result in cumulative neurological and cognitive problems. Repeated concussions occurring within a short period of time (second impact syndrome) can be catastrophic or fatal. One of the goals of CDC is to reduce negative outcomes resulting from sports-related concussion and reduce the occurrence of second-impact syndrome in high schools. To help achieve these goals CDC, National Center for Injury Prevention and Control (NCIPC) will undertake a communication and education effort in the form of a concussion tool kit aimed at high school coaches. The objectives of the tool kit include providing coaches with materials and tools that will help them to: (1) Raise their own awareness about sports-related concussion; (2) prevent sports-related concussion; (3) take appropriate action when injury occurs; and (4) educate athletes, parents, and school officials about sports-related concussion. After review of the tool kit, NCIPC will conduct a telephone survey to assess short-term impact of the communication and educational initiative directed at high school athletic coaches about sports-related concussions.

Specifically, the survey will assess knowledge and awareness about sports-related concussion, appropriateness of content, perceived value, intentions to use, and actual use of tool kit materials. Survey results will be used to identify revisions and improvements that need to be made to the tool kit materials before they are promoted and distributed nationally in 2005. This one-time survey will be conducted over a two to three month period.

Respondents | Number of respondents | Number of responses per respondent | Average burden per respondent (in hrs.) | Total burden (in hrs)
High School Coaches | 500 | 1 | 15 | 125
Total |  |  |  | 125

Dated: April 9, 2004.
Diane Allen,
Acting Director, Management Analysis and Services Office, Centers for Disease Control and Prevention.

[FR Doc. 04-8757 Filed 4-16-04; 8:45 am]

BILLING CODE 4163-18-P